DEPARTMENT OF COMMERCE

International Trade Administration

[C-489-819]

Steel Concrete Reinforcing Bar From the Republic of Turkey: Final Results and Partial Rescission of Countervailing Duty Administrative Review; 2015

AGENCY: Enforcement and Compliance, International Trade Administration, Department of Commerce.

SUMMARY: The Department of Commerce (Commerce) determines that Colakoglu Dis Ticaret A.S. and Colakoglu Metalurji A.S. (collectively, Colakoglu), and Icdas Celik Enerji Tersane ve Ulasim Sanayi A.S. (Icdas), producers/exporters of steel concrete reinforcing bar (rebar) from the Republic of Turkey (Turkey), did not receive countervailable subsidies during the period of review (POR) covering January 1, 2015, through December 31, 2015. This review also covered 11 companies not individually examined, which Commerce determines received net countervailable subsidies during the POR. Additionally, we are rescinding the review for two companies for which reviews were requested.

DATES: Applicable April 13, 2018.

FOR FURTHER INFORMATION CONTACT: Kristen Johnson, AD/CVD Operations, Office III, Enforcement and Compliance, International Trade Administration, U.S. Department of Commerce, 1401 Constitution Avenue NW, Washington, DC 20230; telephone (202) 482-4793.

SUPPLEMENTARY INFORMATION:

Background

Commerce published the Preliminary Results of this administrative review on December 6, 2017.¹ Commerce exercised its discretion to toll all deadlines affected by the closure of the Federal Government from January 20 through 22, 2018. If the new deadline falls on a non-business day, in accordance with Commerce's practice, the deadline will become the next business day. The revised deadline for the final results of this review is now April 9, 2018.²

¹ See Steel Concrete Reinforcing Bar from the Republic of Turkey: Preliminary Results of Countervailing Duty Administrative Review and Intent to Rescind the Review in Part; 2015, 82 FR 57574 (December 6, 2017) (Preliminary Results), and accompanying Preliminary Decision Memorandum (PDM).

² See Memorandum for The Record from Christian Marsh, Deputy Assistant Secretary for Enforcement and Compliance, performing the non-exclusive functions and duties of the Assistant Secretary for Enforcement and Compliance, “Deadlines Affected by the Shutdown of the Federal Government,” dated January 23, 2018. All deadlines in this segment of the proceeding have been extended by three days.

Scope of the Order

The scope of the order consists of steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. While HTSUS subheadings are provided for convenience and customs purposes, the written description of the scope of this Order is dispositive.³

³ See Steel Concrete Reinforcing Bar from the Republic of Turkey: Countervailing Duty Order, 79 FR 65926 (November 6, 2014) (Order). For a full description of the scope of this order see Memorandum, “Decision Memorandum for Final Results of Countervailing Duty 2015 Administrative Review: Steel Concrete Reinforcing Bar from the Republic of Turkey,” dated concurrently with, and hereby adopted by this notice (Issues and Decision Memorandum).

Analysis of Comments Received

All issues raised in interested parties' briefs are addressed in the Issues and Decision Memorandum. A list of the issues raised by interested parties, and to which we responded in the Issues and Decision Memorandum, is provided in the Appendix to this notice. The Issues and Decision Memorandum is a public document and is on file electronically via Enforcement and Compliance's Antidumping and Countervailing Duty Centralized Electronic Service System (ACCESS). ACCESS is available to registered users at https://access.trade.gov and in the Central Records Unit, Room B8024 of the main Commerce building. In addition, a complete version of the Issues and Decision Memorandum can be accessed directly at http://enforcement.trade.gov/frn/. The signed and electronic versions of the Issues and Decision Memorandum are identical in content.

Methodology

Commerce conducted this administrative review in accordance with section 751(a)(1)(A) of the Tariff Act of 1930, as amended (the Act). For each of the subsidy programs found countervailable, we determine that there is a subsidy, i.e., a government-provided financial contribution that gives rise to a benefit to the recipient, and that the subsidy is specific.⁴ For a full description of the methodology underlying all of Commerce's conclusions, see the Issues and Decision Memorandum.

⁴ See sections 771(5)(B) and (D) of the Act regarding financial contribution; section 771(5)(E) of the Act regarding benefit; and section 771(5A) of the Act regarding specificity.

Partial Rescission of Review

Agir Haddecilik A.S. (Agir) ⁵ timely filed a no-shipments certification. U.S. Customs and Border Protection (CBP) did not provide to Commerce any information that contradicted this no-shipments certification. Consequently, in the Preliminary Results, Commerce announced its intent to rescind the review of Agir. No interested party submitted comments on Commerce's intent to rescind the review of Agir. Because there is no evidence on the record to indicate that Agir had entries, exports, or sales of subject merchandise to the United States during the POR, pursuant to 19 CFR 351.213(d)(3), we are rescinding the review with respect to Agir.

⁵ Agir was previously known as Agir Haddecilik Makina ve Sanayi Ticaret Ltd. Sti. Agir's former name was included in the Initiation Notice. See Initiation of Antidumping and Countervailing Duty Administrative Reviews, 82 FR 4294, 4298 (January 13, 2017) (Initiation Notice).

Entries of merchandise produced and exported by Habas Sinai ve Tibbi Gazlar Istihsal Endustrisi A.S. (Habas) are not subject to countervailing duties because the final determination of the investigation with respect to this producer/exporter combination was negative.⁶ However, any entries of merchandise produced by any other entity and exported by Habas, or produced by Habas and exported by another entity, are subject to the Order.

⁶ See Steel Concrete Reinforcing Bar from the Republic of Turkey: Final Affirmative Countervailing Duty Determination Final Affirmative Critical Circumstances Determination, 79 FR 54963, 54964 (September 15, 2014) (Turkey Rebar Final Determination).

No interested party submitted comments on Commerce's intent to rescind the review of Habas. Because there is no evidence on the record of entries of merchandise produced by another entity and exported by Habas, or entries of merchandise produced by Habas and exported by another entity, we determine that Habas is not subject to this administrative review. Therefore, pursuant to 19 CFR 351.213(d)(3), we are rescinding the review with respect to Habas.

Final Results of Review

In accordance with 19 CFR 351.221(b)(5), we determine the following net countervailable subsidy rates for the period January 1, 2015, through December 31, 2015:

Company | Subsidy rate ad valorem (percent)
Icdas Celik Enerji Tersane ve Ulasim Sanayi A.S. and its cross-owned affiliates ⁷ | * 0.02
Colakoglu Dis Ticaret A.S. and Colakoglu Metalurji A.S | * 0.18
Acemar International Limited | ⁸ 1.25
As Gaz Sinai ve Tibbi Azlar A.S.⁹ | 1.25
Asil Celik Sanayi ve Ticaret A.S.¹⁰ | 1.25
Ege Celik Endustrisi Sanayi ve Ticaret A.S.¹¹ | 1.25
Izmir Demir Celik Sanayi A.S | 1.25
Kaptan Demir Celik Endustrisi ve Ticaret A.S.¹² and Kaptan Metal Dis Ticaret ve Nakliyat A.S.¹³ | * ¹⁴ 0.02
Kocaer Haddecilik Sanayi Ve Ticar L | 1.25
Mettech Metalurji Madencilik Muhendislik Uretim Danismanlik ve Ticaret Limited Sirketi | 1.25
MMZ Onur Boru Profil A.S | 1.25
Ozkan Demir Celik Sanayi A.S | 1.25
Wilmar Europe Trading BV | 1.25
* de minimis.

Disclosure

We will disclose to the parties in this proceeding the calculations performed for these final results within five days of the date of publication of this notice in the Federal Register.¹⁵

⁷ We find the following companies to be cross-owned with Icdas: Mardas Marmara Deniz Isletmeciligi A.S., Oraysan Insaat Sanayi ve Ticaret A.S., Artmak Denizcilik Ticaret ve Sanayi A.S., and Demir Sanayi Demir Celik Ticaret ve Sanayi A.S.

⁸ Commerce is assigning the rate of 1.25 percent ad valorem, the sole above de minimis rate calculated within a segment of this proceeding to the non-selected companies. This rate was calculated for Icdas in the underlying investigation. See Turkey Rebar Final Determination, 79 FR at 54964; see also Preliminary Results PDM at 6.

⁹ The company's name was incorrectly spelled as As Gaz Sinai ve Tibbi Azlar AS. in the Initiation Notice. See Initiation Notice, 82 FR at 4298.

¹⁰ The company's name was incorrectly spelled as Asil Celik Sanayi ve Ticaret AS. in the Initiation Notice. Id.

¹¹ The company's name was incorrectly spelled as Ege Celik Endustrisi Sanayi ve Ticaret AS. in the Initiation Notice. Id.

¹² The company's name was incorrectly spelled as Kaptan Demir Celik Industrisi ve Ticaret A.S. in the Initiation Notice. Id.

¹³ In its request for review, the petitioner listed the company name as Kaptan Metal Dis Tic Ve Nak AS. See Petitioner's Letter, “Request for Administrative Review,” dated November 30, 2016, and Initiation Notice, 82 FR at 4298. The petitioner subsequently clarified that the review request was for Kaptan Metal Dis Ticaret ve Nakliyat A.S. See Petitioner's Letter, “Response to Clarification Request,” dated July 26, 2017.

¹⁴ Consistent with Commerce's practice, we continue to assign the rate of 0.02 percent ad valorem to Kaptan Demir Celik Endustrisi ve Ticaret A.S. and Kaptan Metal Dis Ticaret ve Nakliyat A.S., based on their rate calculated in the prior administrative review. See Preliminary Results PDM at 5-6; see also Steel Concrete Reinforcing Bar from the Republic of Turkey: Final Results and Partial Rescission of Countervailing Duty Administrative Review; 2014, 82 FR 26907, 26908 (June 12, 2017).

¹⁵ See 19 CFR 351.224(b).

Assessment and Cash Deposit Requirements

In accordance with 19 CFR 351.212(b)(2), Commerce intends to issue assessment instructions to CBP 15 days after the date of publication of these final results of review to liquidate shipments of subject merchandise entered, or withdrawn from warehouse, for consumption on or after January 1, 2015, through December 31, 2015, for the above-listed companies at the ad valorem assessment rates listed, except for those companies to which a de minimis rate is assigned. Concerning those companies with a de minimis rate, Commerce intends to issue assessment instructions to CBP to liquidate shipments of subject merchandise entered, or withdrawn from warehouse, for consumption on or after January 1, 2015, through December 31, 2015, without regard to countervailing duties.

Commerce also intends to instruct CBP to collect cash deposits of estimated countervailing duties in the amounts shown for each of the respective companies listed above, except, where the rate calculated in these final results is de minimis, no cash deposit will be required on shipments of the subject merchandise entered or withdrawn from warehouse, for consumption on or after the date of publication of the final results of this review. For all non-reviewed firms, we will instruct CBP to collect cash deposits of estimated countervailing duties at the most recent company-specific or all others rate applicable to the company, as appropriate. These cash deposit requirements, effective upon publication of these final results, shall remain in effect until further notice.

Return or Destruction of Proprietary Information

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

We are issuing and publishing these final results of review in accordance with sections 751(a)(1) and 777(i)(1) of the Act, 19 CFR 351.213(d)(4) and 19 CFR 351.221(b)(5).

Dated: April 9, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Comments

IV. Scope of the Order

V. Partial Rescission of the 2015 Administrative Review

VI. Non-Selected Rate

VII. Subsidies Valuation Information

VIII. Analysis of Programs

A. Programs Determined To Be Countervailable

1. Rediscount Program

2. Deduction From Taxable Income for Export Revenue

B. Programs Determined Not To Confer Countervailable Benefits

1. Provision of Natural Gas for Less Than Adequate Remuneration (LTAR)

2. Inward Processing Regime

3. Assistance To Offset Costs Related to Antidumping/CVD Investigations

4. Investment Incentive Certificates

C. Programs Determined Not To Be Countervailable

1. Payments From the Turkish Employers' Association of Metal Industries (MESS)—Social Security Premium Support

2. Payments From MESS—Occupational Health and Safety Support

D. Programs Determined To Not Be Used

1. Purchase of Electricity for More Than Adequate Remuneration (MTAR)—Sales via Build-Operate-Own, Build-Operate-Transfer, and Transfer of Operating Rights Contracts

2. Purchase of Electricity Generated From Renewable Resources for MTAR

3. Provision of Lignite for LTAR

4. Reduction and Exemption of Licensing Fees for Renewable Resource Power Plants

5. Research and Development Grant Program

6. Export Credits, Loans, and Insurance From Turk Eximbank

7. Regional Investment Incentives

8. Large-Scale Investment Incentives

9. Strategic Investment Incentives

10. Incentives for Research & Development Activities

11. Regional Development Subsidies

IX. Analysis of Comments

Comment: Whether Commerce Should Modify the Natural Gas Benchmark

X. Conclusion

[FR Doc. 2018-07722 Filed 4-12-18; 8:45 am]

BILLING CODE 3510-DS-P